DEPARTMENT OF ENERGY

Federal Energy Regulatory Commission

Notice of FERC Staff Attendance at Meeting of Southwest Power Pool Board of Directors/Members Committee

January 23, 2006.

The Federal Energy Regulatory Commission hereby gives notice that members of its staff may attend the meeting of the Southwest Power Pool (SPP) Board of Directors/Members Committee noted below. Their attendance is part of the Commission's ongoing outreach efforts.

Regional State Committee: January 30, 2006, (1 p.m.-5 p.m., CST). Omni Mandalay Hotel at Las Colinas, 221 East Las Colinas Blvd., Irving, TX. 972-556-0800.

Board of Directors/Members Committee: January 31, 2006, (8 a.m.-3p.m., CST). Omni Mandalay Hotel at Las Colinas, 221 East Las Colinas Blvd., Irving, TX. 972-556-0800.

The discussions may address matters at issue in the following proceedings:

Docket Nos. RT04-1 and ER04-48, Southwest Power Pool, Inc.

Docket No. ER05-109, Southwest Power Pool, Inc.

Docket No. ER05-652, Southwest Power Pool, Inc.

Docket No. ER05-666, Southwest Power Pool, Inc.

Docket No. ER05-799, Southwest Power Pool, Inc.

Docket No. ER05-1065, Entergy Services, Inc.

Docket No. ER05-1118, Southwest Power Pool, Inc.

Docket No. ER05-1012, Union Electric Company.

Docket No. ER05-1072, American Electric Power Service Corporation.

Docket No. ER05-1285, Southwest Power Pool, Inc.

Docket No. ER05-1352, Southwest Power Pool, Inc.

Docket No. ER06-15, Southwest Power Pool, Inc.

Docket No. ER06-451, Southwest Power Pool, Inc.

The meetings are open to the public.

For more information, contact Tony Ingram, Office of Energy Markets and Reliability, Federal Energy Regulatory Commission at (501) 614-4789 or tony.ingram@ferc.gov.

Magalie R. Salas,
Secretary.

[FR Doc. E6-1126 Filed 1-27-06; 8:45 am]

BILLING CODE 6717-01-P